DEPARTMENT OF DEFENSE

Defense Logistics Agency

[DOD-2006-OS-0160]

Privacy Act of 1974; Systems of Records

AGENCY: Defense Logistics Agency.

ACTION: Notice to amend a system of records.

SUMMARY: The Defense Logistics Agency is amending a system of records notice to its existing inventory of record systems subject to the Privacy Act of 1974 (5 U.S.C. 552a), as amended.

DATES: This action will be effective without further notice on August 18, 2006, unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: July 13, 2006.
C.R. Choate,
Alternate OSD Federal Register Liaison Officer, Department of Defense.

S180.20 CA

System name:

Biography File (December 31, 1997, 62 FR 68268).

Changes:

* * * * *

System identifier:

Delete “CA” from entry.

System location:

Delete entry and replace with “DLA Public Affairs, Headquarters, Defense Logistics Agency, ATTN: DP, 8725, John J. Kingman Road, Stop 2533, Fort Belvoir, VA 22060-6221, and the Public Affairs Offices of the DLA Field Activities. Official mailing addresses are published as an appendix to DLA's compilation systems of records notices.”

* * * * *

System manger(s) and address:

Delete entry and replace with “Director, DLA Public Affairs, Headquarters, Defense Logistics Agency, ATTN: DP, 8725 John J. Kingman Road, Stop 2533, Fort Belvoir, VA 22060-6221, and the Heads of the Public Affairs Offices within each DLA Field Activity. Official mailing addresses are published as an appendix to DLA's compilation of systems of records notices.”

Notification procedure:

Delete entry and replace with “Individuals seeking to determine whether information about themselves is contained in this system of records should address written inquiries to the Privacy Act Officer, Headquarters, Defense Logistics Agency, ATTN: DP, 8725 John J. Kingman Road, Stop 2533, Fort Belvoir, VA 22060-6221.”

Record access procedures:

Delete entry and replace with “Individuals seeking access to information about themselves contained in this system of records should address written inquiries to the Privacy Act Officer, Headquarters, Defense Logistics Agency, ATTN: DP, 8725 John J. Kingman Road, Stop 2533, Fort Belvoir, VA 22060-6221.”

Contesting records procedures:

Delete entry and replace with “The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.”

* * * * *

S180.20

System name:

Biography File.

System location:

DLA Public Affairs, Headquarters, Defense Logistics Agency, ATTN: DP, 8725 John J. Kingman Road, Stop 2533, Fort Belvoir, VA 22060-6221, and the Public Affairs Offices of the DLA Field Activities. Official mailing addresses are published as an appendix to DLA's compilation of systems of records notices.

Categories of individuals covered by the system:

Selected civilian and military personnel currently and formerly assigned to DLA and other persons affiliated with DLA and the Department of Defense (DoD).

Categories of records in the system:

Biographical information provided by the individual.

Authority for maintenance of the system:

5 U.S.C. 301, Departmental Regulations and 10 U.S.C. 133, Under Secretary of Defense for Acquisition, Technology, and Logistics.

Purpose(s):

Information is maintained as background material for news and feature articles covering activities, assignments, retirements, and reassignments of key individuals; for use in introductions; in the preparation of speeches for delivery at change of command, retirement, award ceremonies, and community relations events; for congressional functions; and for site visits.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, state, and local agency officials and/or private sector entities for use as background information for introductions, briefings, Congressional testimony, and/or meetings.

The DoD ‘Blanket Routine Uses’ set forth at the beginning of DLA's compilation of systems of records notices apply to this system.

Policies and practices for storing, retrieving, accessing, retaining, and disposing of records in the system:

Storage:

Records are maintained on paper and electronic storage media.

Retrievability:

Retrieved alphabetically by last name of individual.

Safeguards:

Records are maintained in a secure, limited access, or monitored area. Physical entry by unauthorized persons is restricted by the use of locks, guards, or administrative procedures. Access to personal information is limited to those who require the records to perform their official duties. All personnel whose official duties require access to the information are trained in the proper safeguarding and use of the information.

Retention and disposal:

Files are destroyed 2 years after retirement, transfer, separation, or death of the person concerned.

System manager(s) and address:

Director, DLA Public Affairs, Headquarters, Defense Logistics Agency, ATTN: DP, 8725 John J. Kingman Road, Stop 2533, Fort Belvoir, VA 22060-6221, and the Heads of the Public Affairs Offices within each DLA Field Activity. Official mailing addresses are published as an appendix to DLA's compilation of systems of records notices.

Notification procedure:

Individuals seeking to determine whether information about themselves is contained in this system of records should address written inquiries to the Privacy Act Officer, Headquarters, Defense Logistics Agency, ATTN: DP, 8725 John J. Kingman Road, Stop 2533, Fort Belvoir, VA 22060-6221.

Record access procedures:

Individuals seeking access to information about themselves contained in this system of records should address written inquiries to the Privacy Act Officer, Headquarters, Defense Logistics Agency, ATTN: DP, 8725 John J. Kingman Road, Stop 2533, Fort Belvoir, VA 22060-6221.

Contesting record procedures:

The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.

Record source categories:

Record subject and record subject's employing agency or organization.

Exemptions claimed for the system:

None.

[FR Doc. 06-6310 Filed 7-18-06; 8:45 am]

BILLING CODE 5001-06-M